DEPARTMENT OF HOUSING AND URBAN DEVELOPMENT

[Docket No. FR-7015-N-03]

60-Day Notice of Proposed Information Collection: Indian Housing Block Grant (IHBG) Program Information Collection

AGENCY: Office of the Assistant Secretary for Public and Indian Housing, PIH, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: May 20, 2019.

ADDRESSES: Interested persons are invited to submit comments regarding this proposal. Comments should refer to the proposal by name and/or OMB Control Number and should be sent to: Colette Pollard, Reports Management Officer, QDAM, Department of Housing and Urban Development, 451 7th Street SW, Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Arlette Mussington, Office of Policy, Programs and Legislative Initiatives, PIH, Department of Housing and Urban Development, 451 7th Street SW, Room 3178, Washington, DC 20410; telephone 202-402-4109, (this is not a toll-free number). Persons with hearing or speech impairments may access this number via TTY by calling the Federal Information Relay Service at (800) 877-8339. Copies of available documents submitted to OMB may be obtained from Ms. Mussington.

SUPPLEMENTARY INFORMATION: This notice informs the public that HUD is seeking approval from OMB for the information collection described in Section A.

A. Overview of Information Collection

Title of Information Collection: Indian Housing Block Grant (IHBG) Program Information Collection.

OMB Approval Number: 2577-0218.

Type of Request: Revision of a currently approved collection.

Form Number: HUD-4117, HUD-4119, HUD-52736-A, HUD-52736-B, HUD-52737, HUD-53246, HUD-53247.

Description of the need for the information and proposed use: The forms included in this collection are associated with the Indian Housing Block Grant (IHBG) program, as authorized under Title I of the Native American Housing Assistance and Self-Determination Reauthorization Act (NAHASDA) (25 U.S.C. 4101). The IHBG program provides funding to eligible Native American tribes and tribally designated housing entities (TDHEs) in the form of formula-based allocations and competitive awards.

IHBG Formula Allocations

NAHASDA authorizes HUD to allocate IHBG funds by formula annually. Recipients may use their IHBG funds to carry out a range of affordable housing activities that benefit low-income Indian families living on Indian reservations or in other Indian areas. HUD's Fiscal Year 2018 Report to Congress states that there are approximately 592 Indian tribes in 34 states that are eligible to participate in the program.

To receive an IHBG, a recipient is required to submit an Indian Housing Plan (IHP) annually to the Office of Native American Programs (ONAP). The IHP describes its planned affordable housing activities for its upcoming program year. The IHP is due to ONAP at least 75 days before the recipient's program year begins.

Recipients must also submit an Annual Performance Report (APR) to ONAP within 90 days of the end of their program year. The APR details the actual activities and accomplishments of their IHBG-funded housing programs.

IHBG Competitive Awards

In Fiscal Years 2018 and 2019, Congress enacted H.R. 1625—Consolidated Appropriations Act, 2018 (Pub. L. 115-141) (Effective: 3/23/18) that appropriated $99,000,000 each fiscal year for IHBGs awarded on a competitive basis. The IHBG Competitive program will give priority to projects that will spur construction and rehabilitation from NAHASDA-eligible recipients while considering need and administrative capacity. Additionally, applicants may apply for other eligible activities under Section 202 of NAHASDA.

In Fiscal Year 2019, HUD will make nearly $2,000,000 in IHBG Competitive funds available under a Notice of Funding Availability (NOFA) and will award the funds to the applicants with the highest rated applications, particularly those with the greatest housing need and administrative capacity. The regulations and requirements governing the formula-driven IHBG program will apply to the competitive IHBG program.

IHBG Competitive applicants must submit a complete application package which includes a narrative response to the NOFA requirements, Application for Federal Assistance (SF-424), Applicant/Recipient Disclosure/Update Report (HUD-2880), Acknowledgement of Application Receipt (HUD-2993), and two new forms: IHBG Cost Summary (HUD-53246), and IHBG Implementation Schedule (HUD-53247). At the end of the 12-month program year, grant recipients submit APRs describing accomplishments, outcomes, and outputs.

Attached to this submission are copies of the FY 2018 Appropriations language for the competitive IHBG program, FY 2019 IHBG Competitive NOFA, NAHASDA statute, and NAHASDA regulations at 24 CFR part 1000.

HUD-52737: Indian Housing Plan/Annual Performance Report (IHP/APR). A recipient of IHBG funds is required to submit an IHP/APR (HUD-52737) that consists of two components. The Indian Housing Plan (IHP) component describes the eligible IHBG-funded, affordable housing activities the recipient plans to conduct for the benefit of low- and moderate-income tribal members and identifies the intended outcomes and outputs for the upcoming 12-month program year. At the end of the 12-month period, the recipient submits the Annual Performance Report (APR) component to describe (1) the use of grant funds during the prior 12-month period; (2) the actual outcomes and outputs achieved; (3) program accomplishments; and (4) jobs supported by IHBG-funded activities. (NAHASDA §§ 102 and 404).

HUD-4117 and HUD-4119: Formula Response Form and Guidelines for Challenging U.S. Decennial Census Data Document. IHBG recipients are responsible for notifying HUD of changes to the Formula Current Assisted Stock (FCAS) component of the IHBG formula. HUD is notified of changes in the FCAS through the Formula Response Form (HUD-4117). IHBG recipients or HUD may challenge the data from the U.S. Decennial Census or provide an alternative source of data by submitting the Guidelines for Challenging U.S. Decennial Census Data Document. Census challenges (HUD-4119) are due to HUD by March 30th of each fiscal year, as stipulated at 24 CFR 1000.336.

HUD-52736-A and B: Depository Agreements. IHBG recipients have the option of investing IHBG funds in eligible instruments with bankers and brokers by using the Depository Agreement for bankers (HUD-52736-A) and the Depository Agreement for brokers (HUD-52736-B). These agreements may be executed at any time.

Respondents (i.e., affected public): Native American tribes, Alaska Native villages and corporations, tribally designated housing entities, banks, and brokers.

Average Hours per Response, and Total Estimated Burdens
Indian housing block grant program | Form name | Number of responses | Frequency of response | Responses annually | Burden hour for response | Respondent annual burden hours
HUD-52737 | HP/APR | 792 | 2 | 1,584 | 62 | 98,208
HUD-4117 | Formula Correction | 300 | 1 | 300 | 0.5 | 150
HUD-4119 | Formula Challenge | 15 | 1 | 15 | 150 | 2,250
HUD-52736-A | Depository Agreement (Banker) | 394 | 1 | 394 | 0.25 | 99
HUD-52736-B | Depository Agreement (Broker) | 394 | 1 | 394 | 0.25 | 99
SF-424, HUD-2880, HUD-2993, HUD-53246, HUD-53247 | IHBG Competitive Grant Application | 500 | 1 | 500 | 80 | 40,000
Total |  | 2,395 | 7 | 3,187 | 293 | 140,805

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: March 1, 2019.
Merrie Nichols-Dixon,
“Director, Office of Policy, Program and Legislative Initiatives.

[FR Doc. 2019-05176 Filed 3-18-19; 8:45 am]

BILLING CODE 4210-67-P